DEPARTMENT OF COMMERCE

National Oceanic and Atmospheric Administration

[I.D. 092904D]

Fisheries Off West Coast States and in the Western Pacific; Western Pacific Pelagic Fisheries; Public Hearing on Draft Environmental Impact Statement

AGENCY: National Marine Fisheries Service (NMFS), National Oceanic and Atmospheric Administration (NOAA), Commerce.

ACTION: Notice of public hearing.

SUMMARY: The Pacific Islands Regional Office of NMFS, in coordination with the Western Pacific Fishery Management Council, will hold a public hearing in Honolulu, HI, to receive comments on a draft environmental impact statement (DEIS) for management measures being considered for the domestic pelagic fisheries in the Pacific Ocean. The DEIS describes and assesses the likely environmental impacts of a range of alternatives for two fishery management actions. The first action is aimed at cost-effectively reducing the potentially harmful effects of fishing by Hawaii-based longline vessels on seabirds. The second is aimed at establishing an effective management framework for pelagic squid fisheries in the Pacific, including fishing activities within the exclusive economic zone of the U.S. and on the high seas. The first action would be taken through the Fishery Management Plan for the Pelagic Fisheries of the Western Pacific Region (FMP), under the authority of the Magnuson-Stevens Fishery Conservation and Management Act. The second action would be taken both through the FMP and under the authority of the High Seas Fishing Compliance Act.

DATES: Public hearings will be held as follows: Wednesday, October 6, 2004, from 5 to 7 p.m., on Hawaii Island in Hilo, HI; Thursday, October 7, 2004, from 6 to 8 p.m., on Oahu Island in Honolulu, HI; and Friday, October 8, 2004, on Kauai Island in Lihue, HI. All times are Hawaii Standard Time.

ADDRESSES: The public hearings will be held at the following locations: On Hawaii Island at the University of Hawaii at Hilo, Campus Center, Room 301, 200 W. Kawili St., Hilo, HI; On Oahu Island at the office of the Western Pacific Fishery Management Council, 1164 Bishop Street, Suite 1400, Honolulu, HI; On Kauai Island, at Kamakahelei Middle School, Room E-101, 4431 Nuhou St., Lihue, HI.

FOR FURTHER INFORMATION CONTACT: Tom Graham, NMFS, 808-973-2937.

SUPPLEMENTARY INFORMATION: The DEIS was made available to the public on August 27, 2004, as described in a Notice of Availability published in the Federal Register by the Environmental Protection Agency on that date. The public comment period for the DEIS ends October 12, 2004.

To obtain a copy of the DEIS or for additional information, contact NMFS (see FOR FURTHER INFORMATION CONTACT). The DEIS is also available on the Internet at http://swr.nmfs.noaa.gov/pir/.

Special Accommodations

This hearing is physically accessible to people with disabilities. Requests for sign language interpretation or other auxiliary aids should be directed to Tom Graham, 808-973-2937 (voice) or 808-973-2941 (fax), by October 6, 2004.

Authority: 16 U.S.C. 1801 et seq., and 16 U.S.C. 5501 et seq.

Dated: September 30, 2004.
Alan D. Risenhoover,
Acting Director, Office of Sustainable Fisheries, National Marine Fisheries Service.

[FR Doc. 04-22343 Filed 10-4-04; 8:45 am]

BILLING CODE 3510-22-S